DEPARTMENT OF VETERANS AFFAIRS

Performance Review Board Members

AGENCY: Department of Veterans Affairs.

ACTION: Notice.

SUMMARY: Under the provisions of 5 U.S.C. 4314(c)(4) agencies are required to publish a notice in the Federal Register of the appointment of Performance Review Board (PRB) members. This notice revises the list of members of the Department of Veterans Affairs (VA) Performance Review Boards which was published in the Federal Register on November 6, 1998 (62 FR 60047).

EFFECTIVE DATE: September 25, 2000.

FOR FURTHER INFORMATION CONTACT: Angel I. Wolfrey, Office of Human Resources Management (052B), Department of Veterans Affairs, 810 Vermont Avenue, NW., Washington, DC 20420, (202) 273-4940.

VA Performance Review Board (PRB)

Eugene A. Brickhouse, Assistant Secretary for Human Resources and Administration (Chairperson)

Joan A. Furey, Director, Center for Women Veterans

Nora E. Egan, Deputy Under Secretary for Management, Veterans Benefits Administration

John H. Thompson, Deputy General Counsel

Frances M. Murphy, M.D., M.P.H., Acting Deputy Under Secretary for Health, Veterans Health Administration

Ventris C. Gibson, Deputy Assistant Secretary for Resolution Management

John T. Hanson, Assistant Secretary for Public and Intergovernmental Affairs

W. Todd Grams, Deputy for Management

Michael G. Sullivan, Deputy Inspector General

Roger R. Rapp, Director, Field Operations, National Cemetery System

Patrick Nappi, Deputy Under Secretary for Operations, Veterans Benefits Administration (Alternate)

Thomas L. Garthwaite, M.D., Under Secretary for Health (Alternate)

Helen H. Bolton, Deputy Assistant Secretary for Human Resources Management (Alternate)

Eileen T. Powell, Associate Deputy Assistant Secretary for Financial Operations (Alternate)

Vincent L. Barile, Director, Operations Support, National Cemetery System (Alternate)

Veterans Benefits Administration PRB

Nora E. Egan, Deputy Under Secretary for Management (Chairperson)

Celia P. Dollarhide, Director, Education Service

Keith R. Pedigo, Director, Loan Guaranty Service

Michael Walcoff, Deputy Under Secretary for Operations (West)

James A. Whitson, Deputy Under Secretary for Operations (East)

Julius M. Williams, Director, Vocational Rehabilitation and Employment Service

Willie L. Hensley, Jr., Director, Center for Minority Veterans

Veterans Health Administration PRB

Frances M. Murphy, M.D., M.P.H. Acting Deputy Under Secretary for Health (Chairperson)

Kenneth J. Clark, Network Director, VISN 22, (Vice-Chairperson)

Terrence S. Batliner, D.D.S., Chief Network Director, VISN 19

Alfonso R. Batres, Ph.D., Chief Readjustment Counseling Officer

Linda W. Belton, Network Director, VISN 11

Lawrence A. Biro, Network Director, VISN 4

Jeanette A. Chirico-Post, M.D., Network Director, VISN 1

Vernon Chong, M.D., Network Director, VISN 17

Gary A. Christopherson, Chief Information Officer

Patricia A. Crosetti, Network Director, VISN 15

Joan E. Cummings, M.D., Network Director, VISN 12

John Dandridge, Jr., Network Director, VISN 9

Larry R. Deal, Network Director, VISN 7

Jim W. Delgado, Acting Chief Communications Officer

James B. Donahoe, Director, Veterans Canteen Service

James J. Farsetta, Network Director, VISN 3

John R. Feussner, M.D., Chief Research and Development Officer

Timothy C. Flynn, M.D., Acting Chief Academic Affiliations Officer

William T. Galey, M.D., Network Director, VISN 20

Daniel F. Hoffmann, Network Director, VISN 6

Thomas J. Hogan, Director, Management Support Office (Ex Officio)

Thomas V. Holohan, M.D., Chief Patient Care Services Officer

Smith Jenkins, Jr., Network Director, VISN 18

Robert E. Lynch, M.D., Network Director, VISN 16

Susan H. Mather, M.D., M.P.H., Chief Public Health and Environmental Hazards Officer

Frederick L. Malphurs, Network Director, VISN 2

Laura J. Miller, Network Director, VISN 10

Melinda L. Murphy, Director, VAMC Muskogee, OK

James J. Nocks, M.D., Network Director, VISN 5

Jimmy A. Norris, Chief Financial Officer

Gregg A. Pane, M.D., M.P.A., Chief Policy and Planning Officer

Robert A. Petzel, M.D., Network Director, VISN 13

Jonathan B. Perlin, M.D., Ph.D., M.S.H.A., Chief Quality and Performance Officer

Robert H. Roswell, M.D., Network Director, VISN 8

Stanley R. Sinclair, Dean, VA Learning University

Robert L. Wiebe, M.D., Network Director, VISN 21

Gary L. Wilkinson, Acting Network Director, VISN 14

Charles V. Yarbrough, Chief Facilities Management Officer

Willie L. Hensley, Jr., Director, Center for Minority Veterans

Office of Inspector General PRB

David A. Brinkman, Director, Audit Followup Directorate,

Department of Defense (Chairperson)

Nancy Hendricks, Assistant Inspector General for Audit, Federal Emergency Management Agency

George Grob, Deputy Inspector General for Evaluation and Inspections, Department of Health and Human Services

Dated: September 15, 2000.
Hershel W. Gober,
Acting Secretary of Veterans Affairs.

[FR Doc. 00-24585 Filed 9-22-00; 8:45 am]

BILLING CODE 8320-01-M